DEPARTMENT OF HOUSING AND URBAN DEVELOPMENT

[Docket No. 4590-FA-7A]

Announcement of Funding Awards for Fiscal Year 2005; Doctoral Dissertation Research Grant Program

AGENCY: Office of the Assistant Secretary for Policy Development and Research, HUD.

ACTION: Announcement of funding awards.

SUMMARY: In accordance with Section 102(a)(4)(C) of the Department of Housing and Urban Development Reform Act of 1989, this document notifies the public of funding awards for the Fiscal Year (FY) 2005 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, Room 8106, 451 Seventh Street, SW., Washington, DC 20410, telephone (202) 708-3061, ext. 3852. To provide service for persons who are hearing-or speech-impaired, this number may be reached via TTY by Dialing the Federal Information Relay Service on (800) 877-8339 or (202) 708-1455. (Telephone numbers, other than “800” TTY numbers, are not toll free).

SUPPLEMENTARY INFORMATION: The DDRG Program was created as a means of expanding the number of researchers conducting research on subjects of interest to HUD. Doctoral candidates can receive grants of up to $25,000 to complete work on their dissertations. Grants are for a two-year period.

The Office of University Partnerships under the Assistant Secretary for Policy Development and Research (PD&R) administers this program. This Office also administers PD&R's other grant programs for academics.

The Catalog of Federal Domestic Assistance number for this program is 14.516.

May 21, 2005, (70 FR 13763), HUD published a Notice of Funding Availability (NOFA) announcing the availability of $400,000 in FY 2005 for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards as follows (More information about the winners can be found at http://www.oup.org.):

List of Awardees for Grant Assistance Under the FY 2005 Doctoral Dissertation Reseach Grant Program Funding Competition, by Institution, Address, Grant Amount and Name of Student Funded

1. The Trustee of Princeton University, Michelle Christy, The Trustee of Princeton University, PO Box 36, 4 New South Building, Princeton, NJ 08544. Grant: $12,308 to Nicole Esparza.

2. Temple University, Roseanne Wallin, Temple University, 1601 North Broad Street, 506 USB, 083-45, Philadelphia, PA 19122. Grant: $25,000 to Gretchen Suess.

3. Massachusetts Institute of Technology, Langley Keyes, Massachusetts Institute of Technology, 77 Massachusetts Avenue, Room 9-523, Cambridge, MA 02139. Grant: $25,000 to Gretchen Weismann.

4. Ohio State University Research Foundation, Laurie Rosenberg, Ohio State University Research Foundation, 1960 Kenny Road, Columbus, OH 43210. Grant: $22,340 to Griff Tester.

5. Rector and Visitors of the University of Virginia, Gerald Kane, Rector and Visitors of the University of Virginia, PO Box 400195, Charlottesville, VA 22904. Grant: $24,930 to Scott Davis.

6. University of Chicago, Glida Reyes, University of Chicago, 5801 South Ellis Avenue, Chicago, IL 60637. Grant: $25,000 to Catherine Fennell.

7. President and Fellow of Harvard, Jenny Schuetz, President and Fellow of Harvard, 1350 Massachusetts Avenue, Holyoke Center, Suite 600, Cambridge, MA 02138. Grant: $22,400 to Jenny Schuetz.

8. The Regents of the University of California, Susan Hedley, The Regents of the University of California, 336 Sproul Hall, MC 5940, Berkeley, CA 94720. Grant: $25,000 to Matthew Marr.

9. The Regents of the University of California, Kenneth Castro-Oistad, The Regents of the University of California, 10920 Wilshire Boulevard, Suite 1200, Berkeley, CA 90024. Grant: $25,000 to Jane Rongerude.

10. Arizona Board of Regents, Joseph Galaskiewicz, Arizona Board of Regents, PO Box 3308, Tucson, AZ 85722. Grant: $22,034 to George Hobor.

11. Kent State University, Karen Mossberger, Kent State University, Research and Graduate Studies, PO Box 5190, 134 Auditorium Bldg, Terrace Drive, Portage, OH 44242. Grant: $25,000 to Michele Gilbert.

12. Tufts University, Johanna Dwyer, Tufts University, Jaharis Building, 150 Harrison Avenue, Boston, MA 02111. Grant: $24,981 to Shirley Chao.

13. Massachusetts Institute of Technology, Priscilla Caissie, Massachusetts Institute of Technology, 77 Massachusetts Avenue, Room 9-523, Cambridge, MA 02139. Grant: $25, 000 to Ryan Allen.

14. North Carolina State University, Matt Ronning, North Carolina State University, 240 Administrative Services III, Campus Box 7514, Raleigh, NC 27695. Grant: $17,5000 to Jaren Pope.

15. Board of Regents, University of Nebraska-Omaha, Mary Farhnam, Board of Regents, University of Nebraska-Omaha, 6001 Dodge Street, EAB 203, Omaha, NE 68182. Grant: $25,0000 to Patrick McNamara.

16. New York University, Linda Reiss, New York University, 15 Washington, Place, 1H, New York, NY 10003. Grant: $24,600 to Keri-Nicole Dillman.

17. Ohio State University Research Foundation, Tom Gegorie, Ohio State University Research Foundation, 1960 Kenny Road, Columbus, OH 43210. Grant: $24,735 to Barbra Teater.

Dated: May 26, 2006.
Darlene F. Williams,
Assistant Secretary.

[FR Doc. E6-8530 Filed 6-1-06; 8:45 am]

BILLING CODE 4210-67-P